SMALL BUSINESS ADMINISTRATION

[Declaration of Disaster #3269]

State of North Dakota (Amendment #1)

In accordance with a notice from the Federal Emergency Management Agency, dated July 11, 2000, the above-numbered Declaration is hereby amended to change the incident period for this disaster from beginning on June 12, 2000 to beginning on April 5, 2000 and continuing.

All other information remains the same, i.e., the deadline for filing applications for physical damage is August 26, 2000 and for economic injury the deadline is March 27, 2001.

(Catalog of Federal Domestic Assistance Program Nos. 59002 and 59008)
Dated: July 12, 2000.
Becky C. Brantley,
Acting Associate Administrator for Disaster Assistance.

[FR Doc. 00-18271 Filed 7-18-00; 8:45 am]

BILLING CODE 8025-01-P